DEPARTMENT OF COMMERCE

Foreign-Trade Zones Board

[B-54-2019]

Foreign-Trade Zone (FTZ) 78—Nashville, Tennessee; Notification of Proposed Production Activity; Lasko Products, LLC (Small Consumer Appliances—Fans, Heaters, Humidifiers); Franklin, Tennessee

Lasko Products, LLC (Lasko), submitted a notification of proposed production activity to the FTZ Board for its facilities in Franklin, Tennessee. The notification conforming to the requirements of the regulations of the FTZ Board (15 CFR 400.22) was received on August 21, 2019.

The applicant will be submitting a separate application for FTZ designation at the company's facilities under FTZ 78. The facilities are used for the production of small consumer appliances. Pursuant to 15 CFR 400.14(b), FTZ activity would be limited to the specific foreign-status materials and components and specific finished products described in the submitted notification (as described below) and subsequently authorized by the FTZ Board.

Production under FTZ procedures could exempt Lasko from customs duty payments on the foreign-status components used in export production. On its domestic sales, for the foreign-status materials/components noted below, Lasko would be able to choose the duty rates during customs entry procedures that apply to box fans, pedestal fans, window fans, fan blowers, floor and wall heaters, evaporative humidifiers, and, furnace humidifiers (duty rate ranges between 2% and 4.7%). Lasko would be able to avoid duty on foreign-status components which become scrap/waste. Customs duties also could possibly be deferred or reduced on foreign-status production equipment.

The components and materials sourced from abroad include: Fan motors; plastic fan handles; metal or plastic fan guards; copper wire harnesses; copper wire cordsets; plastic fan knobs; steel screws; humidifier springwire clamps; humidifier orifice inserts; humidifier water nozzles; furnace humidifiers; transmitters; fridge ionizers; humidistats with rocker switches; humidifier box assemblies; capacitors for electronic transformers; fan ionizers; transformers; plastic fan ornaments; plastic box fan feet sets; aluminum name plates; plastic water pans; plastic valves; lower pumps; humidistat kits; humidifier kits; and, speed controllers (duty rate ranges from duty free to 6.7%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is October 21, 2019.

A copy of the notification will be available for public inspection in the “Reading Room” section of the Board's website; which is accessible via www.trade.gov/ftz.

For further information; contact Diane Finver at Diane.Finver@trade.gov or (202) 482-1367.

Dated: September 3, 2019.
Andrew McGilvray,
Executive Secretary.

[FR Doc. 2019-19419 Filed 9-6-19; 8:45 am]

BILLING CODE 3510-DS-P